DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before April 13, 2007.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, P.O. Box 1306, Room 4102, Albuquerque, New Mexico 87103, (505) 248-6920.

SUPPLEMENTARY INFORMATION:

Permit No. TE-143703

Applicant: Walther, Jeremy, Austin, Texas.

Applicant requests a new permit for research and recovery purposes to conduct presence/absence surveys for the endangered golden-cheeked warbler (Dendroica chrysoparia) within Travis County, Texas.

Permit No. TE-143922

Applicant: Texas Environmental Studies & Analysis, LLC, Kingsville, Texas

Applicant requests a new permit for research and recovery purposes to conduct presence/absence surveys for the endangered black-capped vireo (Vireo atricapillus) and golden-cheeked warbler (Dendroica chrysoparia), within Texas.

Permit No. TE-144063

Applicant: Bureau of Reclamation, Technical Services Center, Denver, Colorado

Applicant requests a new permit for research and recovery purposes to conduct telemetry studies on the endangered razorback sucker (Xyranchen texanus) in the Colorado River between Davis and Parker Dams, and in Lake Havasu, Arizona.

Permit No. TE-103076

Applicant: Transcon Infrastructure, Mesa, Arizona

Applicant requests a permit amendment for research and recovery purposes to conduct surveys for Chiricahua leopard frog (Rana chiricahuensis) within the species' historic range in Arizona.

Permit No. TE-144001

Applicant: Judith Ramirez, Arizona

Applicant requests a new permit for research and recovery purposes to mist net and trap lesser long-nosed bats (Leptonycteris curasoaed yerbabuenae) in order to obtain saliva/cheek cells with mouth swabs for DNA extraction within Arizona.

Permit No. TE-144755

Applicant: Reagan Smith Energy Solutions, Inc., Oklahoma, Arkansas, Texas, Kansas, Nebraska

Applicant requests a new permit for research and recovery purposes to conduct presence/absence surveys and bait away for the American burying beetle (Nicrophorus americanus) within Oklahoma, Arkansas, Texas, Kansas, and Nebraska.

Permit No. TE-146407

Applicant: Belaire Environmental, Rockport, Texas

Applicant requests a new permit for research and recovery purposes to conduct presence/absence surveys for the following endangered species within Texas: golden-cheeked warbler (Dendroica chrysoparia), whooping crane (Grus americana), Kemp's ridley sea turtle (Lepidochelys kempii), and hawksbill sea turtle (Eretmochelys imbricata).

Permit No. TE-146537

Applicant: New Mexico State Land Office, New Mexico

Applicant requests a new permit for research and recovery purposes to conduct presence/absence surveys for the Southwestern willow flycatcher (Empidonax traillii extimus) and the Chiricahua leopard frog (Rana chiricahuensis) within New Mexico.

Permit No. TE-020844

Applicant: Engineering & Envornmental Consultants, Inc., Tucson, Arizona

Applicant requests a permit amendment for research and recovery purposes to collect, propagate, and reintroduce Huachuca water umbel (Lilaeopsis schaffneriana spp recurva), in the San Pedro Riparian National Conservation Area (SPRNCA) and on Fort Huachuca in Southern Arizona.

(Authority: 16 U.S.C. 1531, et seq.)

Dated: February 6, 2007.
Juliana Scully,
Acting Regional Director, Region 2, Albuquerque, New Mexico.

[FR Doc. E7-4638 Filed 3-13-07; 8:45 am]

BILLING CODE 4310-55-P